ENVIRONMENTAL PROTECTION AGENCY

40 CFR PART 52

[OH118-1b; FRL-7133-9]

Approval and Promulgation of Implementation Plan Ohio; Nonattainment Major Stationary Source Rules

AGENCY: Environmental Protection Agency (EPA).

ACTION: Proposed rule.

SUMMARY: In this action, EPA is proposing to approve an addition to the Ohio State Implementation Plan (SIP), comprising rules for nonattainment New Source Review (NSR) procedures. This addition makes the State's existing program for nonattainment NSR procedures into the SIP. It was submitted as a SIP revision request on April 22, 1996 (with subsequent amendments), by the Ohio Environmental Protection Agency (OEPA) to EPA for approval. It consists of general NSR provisions and NSR provisions relating to nonattainment areas. The subsequent amendments resolved problems that prevented full approval and added rules for the public notice requirements of all NSR permits. The EPA proposes to approve the amended SIP revision request as the basis for an NSR nonattainment permitting program consistent with federal rules.

In the “Rules and Regulations” section of this Federal Register, EPA is approving the State's SIP revision as a direct final rule without prior proposal because EPA views this as a noncontroversial amendment and anticipates no adverse comment. The EPA has explained reasons for this approval in the preamble to the direct final rule. If EPA receives no relevant adverse comment, EPA will take no further action on this proposed rule. If EPA receives relevant adverse comment, EPA will withdraw the direct final rule and it will not take effect. In that event, EPA will addresss all relevant public comments in a subsequent final rule based on this proposed rule. In either event, EPA will not institute a second comment period on this action. Any parties interested in commenting must do so at this time.

DATES: Written comments must be received by March 25, 2002.

ADDRESSES: Written comments should be addressed to Ms. Pamela Blakley, Chief, Permits and Grants Section (IL/IN/OH), Attention: Mr. Kaushal Gupta, at the EPA Region 5 office listed below. Copies of documents relevant to this action are available for public inspection during normal business hours at the following location: Permits and Grants Section (IL/IN/OH), Air Programs Branch, (AR-18J), U.S. Environmental Protection Agency, Region 5, 77 West Jackson Boulevard, Chicago, Illinois, 60604.

Anyone wanting to examine these documents should make an appointment with the appropriate office at least two working days in advance.

FOR FURTHER INFORMATION CONTACT: Kaushal Gupta, Environmental Engineer, Permits and Grants Section (IL/IN/OH), Air Programs Branch, (AR-18J), U.S. Environmental Protection Agency, Region 5, 77 West Jackson Boulevard, Chicago, Illinois, 60604, telephone (312) 886-6803. For further information regarding OEPA's rules for public notice procedure, please contact Jorge Acevedo, Environmental Engineer, Permits and Grants Section (IL/IN/OH), Air Programs Branch, (AR-18J), U.S. Environmental Protection Agency, Region 5, 77 West Jackson Boulevard, Chicago, Illinois, 60604, telephone (312) 886-2263.

SUPPLEMENTARY INFORMATION: For additional information, see the Direct Final Rule which is published in the Rules and Regulations section of this Federal Register.

Authority: 42 U.S.C. 7401-7671q.

Dated: December 6, 2001.
Norman Niedergang,
Acting Regional Administrator, Region 5.

[FR Doc. 02-3761 Filed 2-20-02; 8:45 am]

BILLING CODE 6560-50-P